ENVIRONMENTAL PROTECTION AGENCY

[FRL-9902-81—Region 4]

Availability of FY 12 Grantee Performance Evaluation Reports for the Eight States of EPA Region 4 and 17 Local Agencies

AGENCY: Environmental Protection Agency (EPA).

ACTION: Notice of availability; Clean Air Act Section 105 grantee performance evaluation reports.

SUMMARY: EPA's grant regulations require the Agency to evaluate the performance of agencies which receive grants. EPA's regulations for regional consistency require that the Agency notify the public of the availability of the reports of such evaluations. EPA performed end-of-year evaluations of eight state air pollution control programs (Alabama Department of Environmental Management; Florida Department of Environmental Protection; Georgia Department of Natural Resources; Commonwealth of Kentucky Energy and Environment Cabinet; Mississippi Department of Environmental Quality; North Carolina Department of Environment and Natural Resources; South Carolina Department of Health and Environmental Control; and Tennessee Department of Environment and Conservation) and 17 local programs (City of Huntsville Division of Natural Resources, AL; Jefferson County Department of Health, AL; Broward County Environmental Protection and Growth Management Department, FL; City of Jacksonville Environmental Quality Division, FL; Hillsborough County Environmental Protection Commission, FL; Miami-Dade County Air Quality Management Division, FL; Orange County Environmental Protection Division, FL; Palm Beach County Health Department, FL; Pinellas County Parks and Conservation Resources, FL; Louisville Metro Air Pollution Control District, KY; Forsyth County Environmental Affairs Department, NC; Mecklenburg County Land Use and Environmental Services Agency, NC; Western North Carolina Regional Air Quality Agency, NC; Chattanooga-Hamilton County Air Pollution Control Bureau, TN; Shelby County Health Department, TN; Knox County Department of Air Quality Management, TN; and Metropolitan Government of Nashville and Davidson County Public Health Department, TN). The 25 evaluations were conducted to assess the agencies' Fiscal Year 2012 performance under the grants awarded by EPA under authority of section 105 of the Clean Air Act. EPA Region 4 has prepared reports for each agency identified above and these reports are now available for public inspection.

ADDRESSES: The reports may be examined at the EPA's Region 4 office, 61 Forsyth Street SW., Atlanta, Georgia 30303, in the Air, Pesticides and Toxics Management Division. The Regional Office's official hours of business are Monday through Friday, 8:30 to 4:30, excluding federal holidays.

FOR FURTHER INFORMATION CONTACT: Marie Persinger (404) 562-9048 for information concerning the state and local agencies of Alabama and Kentucky; Artra Cooper (404) 562-9047 for the state and local agencies of Florida; Mary Echols (404) 562-9053 for the state agency of Georgia; Shantel Shelmon (404) 562-9817 for the state and local agencies of North Carolina; Angela Isom (404) 562-9092 for the state agencies of Mississippi and South Carolina; and Gwendolyn Graf (404) 562-9289 for the state and local agencies of Tennessee. They may be contacted at the Region 4 address mentioned in the previous section of this notice.

Dated: October 29, 2013.
Beverly H. Banister,
Acting Deputy Regional Administrator, Region 4.

[FR Doc. 2013-27151 Filed 11-12-13; 8:45 am]

BILLING CODE 6560-50-P